FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 19, 2016.

A. Federal Reserve Bank of Cleveland (Nadine Wallman, Vice President) 1455 East Sixth Street, Cleveland, Ohio 44101-2566. Comments can also be sent electronically to Comments.applications@clev.frb.org:

1. Versailles Capital Group (“VCG”), consisting of Jeffrey D. Ball (Nicholasville, Kentucky), Amber K. Ball (Nicholasville, Kentucky), Raymond S, Haga (Lexington, Kentucky), Amy S, Haga (Lexington, Kentucky), David R, Brown (Versailles, Kentucky), David A. Brown (Versailles, Kentucky), Leah R. Brown (Versailles, Kentucky), Timothy J. Cambron and his Irrevocable Trust and Revocable Living Trust 2 (Versailles, Kentucky), Anne M. Cambron and her Irrevocable Trust and Revocable Living Trust 2 (Versailles, Kentucky), Carly A. Cambron (Nashville, Tennessee), Lauren M. Cambron (Versailles, Kentucky), Seth J. Cambron (Versailles, Kentucky), Ruggles Sign Company (Versailles, Kentucky), Conny D. Goodin (Versailles, Kentucky), Cheryl J. Goodin (Versailles, Kentucky), John L. Goodin (New Orleans, Lousiana), Allyson J. Goodin (New Orleans, Lousiana), Trent L. Goodin (Lexington, Kentucky), Carol A. Goodin (Louisville, Kentucky), Jack A. Kain (Versailles, Kentucky), Denis G. King (Frankfort, Kentucky), Myra D. King (Frankfort, Kentucky), Brian J. King (Brandenburg, Kentucky), David T. Meyers (Versailles, Kentucky), Michelle S. Oxley (Versailles, Kentucky), Marion K. Reed (Versailles, Kentucky), Brenda A. Reed (Versailles, Kentucky), William R. Shanks (Versailles, Kentucky), Margaret W. Shanks (Versailles, Kentucky), Elizabeth A. Blevins (Hanahan, South Carolina), Willard M. Wickstrom (Louisville, Kentucky), Barry S. Settles (Versailles, Kentucky), Brian S. Settles (Louisville, Kentucky), Lindsay Settles (Versailles, Kentucky), Frank E. Stark (Versailles, Kentucky), and Marsha S. Stark (Versailles, Kentucky); to acquire voting shares of Citizens Commerce Bancshares, Inc., and thereby indirectly acquire Citizens Commerce National Bank, both of Versailles, Kentucky.

B. Federal Reserve Bank of Minneapolis (Jacquelyn K. Brunmeier, Assistant Vice President) 90 Hennepin Avenue, Minneapolis, Minnesota 55480-0291:

1. Michael D. Toombs and Barbara A. Toombs, individually and as trustees of the David H. Toombs Family Trust (the Trust), all of Rosemount, Minnesota; to acquire voting shares of Higgins Bancorporation, Inc., Rosemount, Minnesota (Higgins). In addition, the Trust; Michael D. Toombs; Barbara A. Toombs; Gregory J. Toombs, Clear Lake, Wisconsin; James P. Toombs, Rosemount, Minnesota; Mark E. Toombs, Lakeville, Minnesota; Amy M. Murphy, Farmington, Minnesota; and Sarah J. Peterson, Lakeville, Minnesota, to retain or acquire control of Higgins shares as part of the Toombs family shareholder group, and thereby indirectly retain or acquire control of First State Bank of Rosemount, Rosemount, Minnesota.

Board of Governors of the Federal Reserve System, November 28, 2016.
Yao-Chin Chao,
Assistant Secretary of the Board.

[FR Doc. 2016-28895 Filed 11-30-16; 8:45 am]

BILLING CODE 6210-01-P